DEPARTMENT OF HOMELAND SECURITY

Federal Emergency Management Agency

44 CFR Part 67

[Docket No. FEMA-B-7765]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 9, 2008.

ADDRESSES: The corresponding preliminary Flood Insurance Rate Map (FIRM) for the proposed BFEs for each community are available for inspection at the community's map repository. The respective addresses are listed in the table below.

You may submit comments, identified by Docket No. FEMA-B-7765, to William R. Blanton, Jr., Chief, Engineering Management Branch, Mitigation Directorate, Federal Emergency Management Agency, 500 C Street, SW., Washington, DC 20472, (202) 646-3151, or (email) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Tangipahoa Parish, Louisiana, and Incorporated Areas
Natalbany River | Approximately 2.5 miles upstream of State Route 40 intersection | +100 | +97 | Town of Amite City, Unincorporated Areas of Tangipahoa Parish.
| Approximately 185 feet upstream of State Route 1048 | +181 | +183
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Amite City
Maps are available for inspection at 212 E. Oak St., Amite, LA 70422
Unincorporated Areas of Tangipahoa Parish
Maps are available for inspection at 15481 Club Deluxe Rd., Hammond, LA 70403
Orange County, New York, and Incorporated Areas
Summit Brook | Approximately 50 feet downstream of East Lake Road | None | +562 | Village of Tuxedo Park.
| Approximately 1,318 feet downstream of East Lake Road | None | +562
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Village of Tuxedo Park
Maps are available for inspection at Tuxedo Park Village Hall, 80 Lorillard Road, Tuxedo Park, NY.
Haywood County, North Carolina, and Incorporated Areas
Allen Creek | At the confluence with Richland Creek | +2740 | +2741 | Unincorporated Areas of Haywood County, Town of Waynesville.
| Approximately 0.6 mile upstream of New Allens Creek Road (State Road 1147) | None | +3093
Beaverdam Creek | At the confluence with Pigeon River | +2578 | +2587 | Unincorporated Areas of Haywood County, Town of Canton.
| Just downstream of Smathers Cove Road (State Road 1614) | None | +2712
Big Creek | At the confluence with Pigeon river | None | +1409 | Unincorporated Areas of Haywood County.
| Approximately 120 feet upstream of Mount Sterling Road (State Road 1397) | None | +1547
Browning Branch | At the confluence with Richland Creek | +2707 | +2708 | Unincorporated Areas of Haywood County, Town of Waynesville.
| Approximately 650 feet upstream of Browning Branch Road (State Road 1142) | None | +3054
Campbell Creek | At the confluence with Jonathan Creek | +3006 | +3005 | Unincorporated Areas of Haywood County, Town of Maggie Valley.
| Approximately 1,000 feet upstream of Campbell Creek Road (State Road 1214) | None | +3362
Cataloochee Creek | At the confluence with Pigeon River | None | +2272 | Unincorporated Areas of Haywood County.
| Approximately 3.5 miles upstream of the confluence with Pigeon River | None | +2458
Cove Creek (into Fines Creek) | At the confluence with Fines Creek | None | +2473 | Unincorporated Areas of Haywood County.
| Approximately 0.9 mile upstream of the confluence with Fines Creek | None | +2576
Cove Creek (into Jonathan Creek) | At the confluence with Jonathan Creek | +2476 | +2475 | Unincorporated Areas of Haywood County.
| Approximately 100 feet upstream of Sutton Town Road (State Road 1331) | None | +2654
Dix Creek | At the confluence with East Fork Pigeon River | +2701 | +2700 | Unincorporated Areas of Haywood County.
| Approximately 440 feet upstream of Dix Creek Road (State Road 1106) | None | +3281
East Fork Pigeon River | At the confluence with Pigeon River | +2653 | +2650 | Unincorporated Areas of Haywood County.
| Approximately 1.4 miles upstream of Camp Hope Road (State Road 1892) | None | +3282
Farmers Branch | At the confluence with Richland Creek | +2672 | +2671 | Town of Waynesville.
| Approximately 860 feet upstream of Hazelwood Avenue | None | +2729
Fines Creek | At the confluence with Pigeon River | None | +2275 | Unincorporated Areas of Haywood County.
| Approximately 1,300 feet upstream of Wayward Cove | None | +2597
Hemphill Creek | Approximately 300 feet upstream of the confluence with Jonathan Creek | None | +2589 | Unincorporated Areas of Haywood County.
| Approximately 100 feet upstream of Hemphill Road (State Road 1313) | None | +2793
Hominy Creek | At the Haywood/Buncombe County boundary | +2247 | +2250 | Unincorporated Areas of Haywood County, Town of Canton.
| Approximately 80 feet upstream of U.S. Highway 19 | None | +2407
Hyatt Creek | At the confluence with Richland Creek | +2757 | +2758 | Unincorporated Areas of Haywood County, Town of Waynesville.
| Approximately 160 feet upstream of Hyatt Creek Road (State Road 1168) | None | +2857
Jonathan Creek | At the confluence with Pigeon River | None | +2373 | Unincorporated Areas of Haywood County, Town of Maggie Valley.
| Approximately 500 feet downstream of Black Camp Gap Road (State Road 1300) | None | +3512
Lake Junaluska | Entire Shoreline | +2567 | +2566 | Unincorporated Areas of Haywood County.
Little East Fork Pigeon River | Approximately 100 feet upstream of the confluence with West Fork Pigeon River | None | +2835 | Unincorporated Areas of Haywood County.
| Approximately 290 feet upstream of Little East Fork Road (State Road 1129) | None | +3062
North Hominy Creek | At the confluence with Hominy Creek | +2389 | +2392 | Unincorporated Areas of Haywood County, Town of Canton.
| Approximately 0.3 mile upstream of Peaceful Path | None | +2709
Pigeon River | At the confluence of Big Creek | None | +1409 | Unincorporated Areas of Haywood County, Town of Canton, Town of Clyde.
| At the confluence of East Fork Pigeon River and West Fork Pigeon River | +2653 | +2650
Pigeon River Tributary (Waterville Lake) | At the confluence with Pigeon River | +2594 | +2595 | Unincorporated Areas of Haywood County, Town of Canton.
| Approximately 950 feet upstream of Pruett Ridge | None | +2676
Plott Creek | Approximately 200 feet upstream of the confluence with Richland Creek | +2701 | +2702 | Unincorporated Areas of Haywood County, Town of Waynesville.
| Approximately 650 feet upstream of Serenity Mountain Road | None | +3223
Raccoon Creek | At the confluence with Richland Creek | +2577 | +2576 | Town of Waynesville.
| Approximately 1,040 feet upstream of Test Farm Road (State Road 1810) | None | +2652
Richland Creek | At the confluence with Pigeon River | None | +2506 | Unincorporated Areas of Haywood County, Town of Waynesville.
| Approximately 440 feet upstream of U.S. Highway 23 | None | +3057
Rush Fork | At the confluence with Pigeon River | None | +2458 | Unincorporated Areas of Haywood County.
| Approximately 1,380 feet upstream of Palmer Pond Road | None | +2588
Shallow Flooding Area | Northeast intersection of Railroad and Lea Plant Road | None | #3 | Town of Waynesville.
| Approximately 100 feet northeast of Elysinia Avenue and Hazelwood Avenue intersection | +2708 | #3
Shelton Creek | At the confluence with Richland Creek | +2611 | +2610 | Town of Waynesville.
| Approximately 500 feet upstream of U.S. Highway 276 | None | +2660
Thickety Creek | Approximately 900 feet upstream of the confluence with Pigeon River | +2555 | +2556 | Unincorporated Areas of Haywood County.
| Approximately 70 feet upstream of Incinerator Road (State Road 1550) | None | +2573
West Fork Pigeon River | At the confluence with Pigeon River and East Fork Pigeon River | +2653 | +2650 | Unincorporated Areas of Haywood County.
| Approximately 2.3 miles upstream of Steel Bridge Road (State Road 1216) | None | +3170
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Canton
Maps are available for inspection at Canton Town Hall, 58 Park Street, Canton, NC.
Town of Clyde
Maps are available for inspection at Clyde Town Hall, 8437 Carolina Boulevard, Clyde, NC.
Town of Maggie Valley
Maps are available for inspection at Maggie Valley Town Hall, 3987 Soco Road, Maggie Valley, NC.
Town of Waynesville
Maps are available for inspection at Waynesville Town Hall, 16 South Main Street, Waynesville, NC.
Unincorporated Areas of Haywood County
Maps are available for inspection at Haywood County Planning Office, 1233 North Main Street, Waynesville, NC.
Commonwealth of Puerto Rico County, Puerto Rico, and Incorporated Areas
Atlantic Ocean—Entire Shoreline of the Commonwealth of Puerto Rico | Approximately 0.8 kilometers northwest of intersection of Carretera 466 and Carretera Municipal | None | ‸2.7 | Commonwealth of Puerto Rico, Municipality of Ponce.
| Approximately 0.9 kilometer northwest of intersection of Carretera 681 and Calle B | ‸2.4 | ‸13.7
Caribbean Sea | Approximately 550 meters southwest of the intersection of Calle Dr Vidal and Calle 33 | None | ‸1.5 | Commonwealth of Puerto Rico, Municipality of Ponce.
| Shoreline, approximately 2.7 kilometers southwest of the intersection of Carretera 307 and Calle A | ‸2.7 | ‸4.6
Isla Culebra/Atlantic Ocean | Approximately 1.6 kilometers northwest of the intersection of Calle 1 and Carretera 251 | ‸2.1 | ‸1.5 | Commonwealth of Puerto Rico.
| Shoreline, approximately 3.0 kilometers northeast of the intersection of Calle 1 and Carretera 251 (Punta Flamenco) | ‸4.3 | ‸14.3
Isla Culebra/Ensenada Honda | Approximately 90 meters southeast of the intersection of Calle Luis Munoz Marin and Carretera 250 | ‸3.8 | ‸3 | Commonwealth of Puerto Rico.
| Shoreline, approximately 4.0 kilometers southeast of the intersection of Calle Luis Munoz Marin and Carretera 250 | ‸3.6 | ‸8.8
Isla Vieques/Caribbean Sea | Approximately 3.0 kilometers southwest of the intersection of Carretera 200 and Camino Puerto Diablo | ‸2.1 | ‸2.4 | Commonwealth of Puerto Rico.
| Shoreline, approximately 6.9 kilometers southwest of the intersection of Carretera 201 and Carretera 996 | ‸3.2 | ‸3.8
Isla Vieques/Vieques Passage | Approximately 9.2 kilometers northwest of the intersection of Carretera 201 and Carretera 996 | ‸2 | ‸2.4 | Commonwealth of Puerto Rico.
| Shoreline, approximately 3.7 kilometers northwest of the intersection of Carretera 201 and Carretera 996 | ‸2.8 | ‸6.2
Isla Vieques/Vieques Sound | Approximately 9.7 kilometers southeast of the intersection of Carretera 200 and Camino Puerto Diablo | ‸2.1 | ‸2.7 | Commonwealth of Puerto Rico.
| Shoreline, approximately 9.8 kilometers southeast of the intersection of Carretera 200 and Camino Puerto Diablo | ‸3.2 | ‸4.1
Quebrada Cambute | At confluence with Rio Canovanillas | None | ‸4.9 | Commonwealth of Puerto Rico.
| Approximately 790 meters upstream of confluence with Rio Canovanillas | None | ‸12.1
Quebrada Honda | Approximately 2,800 meters upstream of the confluence with Rio Cibuco | ‸17.4 | ‸17 | Commonwealth of Puerto Rico.
| Approximately 2,330 meters upstream of Puerto Rico Route 2 | None | ‸74.2
| At confluence with Rio Guanajibo | None | ‸89.5
| Approximately 920 meters upstream of Sector Jeraldo | None | ‸106.1
Quebrada Mabu | At confluence with Rio Humacao | ‸12.8 | ‸13.9 | Commonwealth of Puerto Rico.
| Approximately 460 meters upstream of Calle B | None | ‸43.3
Quebrada Mariana | At confluence with Rio Humacao | ‸19.6 | ‸19 | Commonwealth of Puerto Rico.
| Approximately 3,400 meters upstream of Puerto Rico Highway 30 | None | ‸75.2
Quebrada Mariana Tributary | At confluence with Quebrada Mariana | None | ‸20.5 | Commonwealth of Puerto Rico.
| Approximately 110 meters upstream of Camino Manolo Lopez | None | ‸32.2
Quebrada la Mina | Approximately 220 meters downstream of Puerto Rico Route 997 | None | ‸6.1 | Commonwealth of Puerto Rico.
| Approximately 930 meters upstream of Puerto Rico Route 201 | None | ‸77.7
Quebrada la Mina Tributary | Confluence with Quebrada la Mina | None | ‸45.6 | Commonwealth of Puerto Rico.
| Approximately 755 meters upstream of confluence with Quebrada la Mina | None | ‸82.3
Rio Bairoa | At confluence with Rio Grande de Loiza Reach 2 | ‸51.3 | ‸50.9 | Commonwealth of Puerto Rico.
| Approximately 290 meters upstream of Calle Gardena | ‸90.3 | ‸90.1
Rio Caguitas | At confluence of Rio Grande de Loiza Reach 2 | ‸52.1 | ‸51 | Commonwealth of Puerto Rico.
| Approximately 1,830 meters upstream of Calle Canaboncito | None | ‸81.2
Rio Canas | Confluence with Rio Matilde | 11.7 | ‸10.4 | Commonwealth of Puerto Rico, Municipality of Ponce.
| Approximately 520 meters upstream of Avenida Ponce De Leon | 38.3 | ‸40.3
Rio Culebrinas (at San Sebastian) | Approximately 1,120 meters downstream of Calle Jose Torres Pino | None | ‸57.3 | Commonwealth of Puerto Rico.
| Approximately 1,160 meters upstream of Carretera 119 | None | ‸69
Rio Culebrinas (at San Sebastian) Tributary | At confluence with Rio Culebrinas (at San Sebastian) | None | ‸60.8 | Commonwealth of Puerto Rico.
| Approximately 710 meters upstream of Calle Hostos Cabrera | None | ‸64.1
Rio Culebrinas (downstream reach) | Approximately 473 meters upstream of Puerto Rico Highway 2 | ‸9 | ‸8.7 | Commonwealth of Puerto Rico.
| Approximately 1,210 meters upstream of Calle Concepcion Vera Ayala | None | ‸18.6
Rio Fajardo | Approximately 1,140 meters upstream of mouth | None | ‸1 | Commonwealth of Puerto Rico.
| Approximately 2,050 meters upstream of Carretera 977 | None | ‸60.7
Rio Grande de Anasco | Approximately 300 meters upstream of mouth | ‸3 | ‸2 | Commonwealth of Puerto Rico.
| Approximately 2,370 meters upstream of Carretera 406 | None | ‸20
Rio Grande de Humacao | Approximately 230 meters above mouth | ‸2.9 | ‸2 | Commonwealth of Puerto Rico.
| Approximately 1,920 meters upstream of Carretera 914 | None | ‸46.5
Rio Grande de Loiza Reach 1 | Approximately 25 meters upstream of Puerto Rico Highway 3 | ‸12.8 | ‸13.1 | Commonwealth of Puerto Rico.
| Approximately 5,120 meters upstream of Puerto Rico Highway 181 | None | ‸28.1
Rio Grande de Loiza Reach 2 | Approximately 3,640 meters downstream of Puerto Rico Highway 30 | None | ‸49.5 | Commonwealth of Puerto Rico.
| Approximately 2,700 meters upstream of Carretera 183 | None | ‸96.4
Rio Grande de Manati | Approximately 130 meters upstream of mouth | ‸1.5 | ‸3 | Commonwealth of Puerto Rico.
| Approximately 100 meters upstream of Puerto Rico Route 145 | ‸45.4 | ‸49
Rio Guanajibo | Approximately 50 meters downstream of Carretera 102 | ‸2 | ‸2.4 | Commonwealth of Puerto Rico.
| Approximately 2,150 meters upstream of Carretera 368 | None | ‸113
Rio Guatemala | At confluence with Rio Culebrinas (at San Sebastian) | None | ‸53.6 | Commonwealth of Puerto Rico.
| Approximately 1,650 meters upstream of Carretera 111 | None | ‸71.4
Rio Guayanes | Approximately 450 meters upstream of mouth | None | ‸3.3 | Commonwealth of Puerto Rico.
| Approximately 4,330 meters upstream of Carretera 182 | None | ‸34.3
Rio Guayo | Approximately 300 meters upstream of the confluence with Rio Inabon | ‸45.3 | ‸45.8 | Commonwealth of Puerto Rico, Municipality of Ponce.
| Approximately 44 meters upstream of Puerto Rico Route 512 | ‸156.8 | ‸156.1
Rio Gurabo | At confluence with Rio Grande de Loiza Reach 2 | ‸49.6 | ‸46.8 | Commonwealth of Puerto Rico.
| Approximately 1,800 meters upstream of Carretera 31 | None | ‸71.4
Rio Inabon | Approximately 96 meters upstream of mouth | None | ‸2.4 | Commonwealth of Puerto Rico, Municipality of Ponce.
| Approximately 7,005 meters upstream of Calle 1 | 130.9 | ‸132.5
Rio Jacaguas | Approximately 96 meters upstream of mouth | None | ‸2.4 | Commonwealth of Puerto Rico, Municipality of Ponce.
| Approximately 162 meters upstream of Puerto Rico Route 149 | ‸78.2 | ‸77.4
Rio Jacaguas (at Villalba) | Approximately 1,180 meters downstream of Puerto Rico Route 150 | None | ‸133.4 | Commonwealth of Puerto Rico.
| Approximately 2,010 meters upstream of Puerto Rico Route 561 | None | ‸196
Rio Limones | At confluence with Rio Guayanes | None | ‸14.8 | Commonwealth of Puerto Rico.
| Approximately 120 meters upstream of Carretera 902 | None | ‸37.6
Rio Matilde | Approximately 800 meters downstream of Puerto Rico Route 52 | ‸2.5 | ‸2.1 | Commonwealth of Puerto Rico.
| Confluence with Rio Canas and Rio Pastillo | ‸11.7 | ‸10.3
Rio Pastillo | Confluence with Rio Matilde | ‸11.7 | ‸10.4 | Commonwealth of Puerto Rico, Municipality of Ponce.
| Approximately 80 meters upstream of Puerto Rico Route 132 | ‸42.7 | ‸42
Rio Sabana | Approximately 875 meters above mouth | None | ‸2.7 | Commonwealth of Puerto Rico.
| Approximately 1.050 meters upstream of Carretera 983 | None | ‸26.5
Rio Turabo | At confluence with Rio Grande de Loiza Reach 2 | ‸59.1 | ‸57.4 | Commonwealth of Puerto Rico.
| Approximately 7,500 meters upstream of Calle Georgetti | None | ‸105.8
Rio Valenciano | At confluence with Rio Guarabo | ‸59 | ‸59.8 | Commonwealth of Puerto Rico.
| Approximately 1,040 meters upstream of Carretera 928 | None | ‸70
Vieques Passage | Approximately 3.9 kilometers southeast of the intersection of Carretera 3 and Carretera 31 | ‸2.2 | ‸1.8 | Commonwealth of Puerto Rico.
| Shoreline, approximately 4.1 kilometers southeast of the intersection of Carretera 3 and Carretera 31 (Punta Lima) | ‸3.3 | ‸9.8
Vieques Sound | At intersection of Forrestal Drive and Tarawa Drive | ‸2.6 | ‸3.4 | Commonwealth of Puerto Rico.
| Shoreline, approximately 3.1 kilometers northeast of intersection of Avenida el Conquistador and Carretera Cabezas | ‸2.9 | ‸5.2
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Commonwealth of Puerto Rico
Maps are available for inspection at Puerto Rico Planning Board, North Building, 16th Floor, De Diego Avenue, Stop 22 Santurce, San Juan, PR.
Municipality of Ponce
Maps are available for inspection at Ponce City Hall, Calle Villa—Frente a Plaza Las Delicias, Ponce, PR.
King County, Washington, and Incorporated Areas
North Creek | Approximately 690 feet upstream of NE 195th Street, landward of east levee | None | +34 | City of Bothell, City of Woodinville.
| Approximately at SR 522, east of I-405, landward of east levee | None | +34
| Approximately 820 feet upstream of North Creek Parkway, landward of east levee | None | +42
North Creek | Approximately 100 feet upstream of N 195th Street, landward of west levee | None | +36 | City of Bothell.
| Approximately 820 feet upstream of North Creek Parkway, landward of west levee | None | +42
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Bothell
Maps are available for inspection at 9654 NE 182nd St., Bothell, WA.
City of Woodinville
Maps are available for inspection at 17301-133rd Ave NE, Woodinville, WA 98072.

(Catalog of Federal Domestic Assistance No. 97.022, “Flood Insurance.”)

Dated: February 28, 2008.
Michael K. Buckley,
Deputy Assistant Administrator for Mitigation, Department of Homeland Security, Federal Emergency Management Agency.

[FR Doc. E8-4638 Filed 3-7-08; 8:45 am]

BILLING CODE 9110-12-P